FARM CREDIT ADMINISTRATION

Farm Credit Administration Board Sunshine Act Meeting

AGENCY: Farm Credit Administration.

SUMMARY: Notice is hereby given, pursuant to the Government in the Sunshine Act, of the regular meeting of the Farm Credit Administration Board (Board).

DATE AND TIME: The regular meeting of the Board will be held at the offices of the Farm Credit Administration in McLean, Virginia, on November 14, 2013, from 9:00 a.m. until such time as the Board concludes its business.

FOR FURTHER INFORMATION CONTACT: Dale L. Aultman, Secretary to the Farm Credit Administration Board, (703) 883-4009, TTY (703) 883-4056.

ADDRESSES: Farm Credit Administration, 1501 Farm Credit Drive, McLean, Virginia 22102-5090. Submit attendance requests via email to VisitorRequest@FCA.gov. See SUPPLEMENTARY INFORMATION for further information about attendance requests.

SUPPLEMENTARY INFORMATION: Parts of this meeting of the Board will be open to the public (limited space available), and parts will be closed to the public. Please send an email to VisitorRequest@FCA.gov at least 24 hours before the meeting. In your email include: Name, postal address, entity you are representing (if applicable), and telephone number. You will receive an email confirmation from us. Please be prepared to show a photo identification when you arrive. If you need assistance for accessibility reasons, or if you have any questions, contact Dale L. Aultman, Secretary to the Farm Credit Administration Board, at (703) 883-4009. The matters to be considered at the meeting are:

Open Session

A. Approval of Minutes

• October 10, 2013.

B. New Business

• Conclusion of Pilot Investment Programs and Withdrawal of Proposed Rule.

C. Reports

• Ethics Update Report.

Closed Session*

• Office of Secondary Market Oversight Quarterly Report.

*Session Closed-Exempt pursuant to 5 U.S.C. Section 552b(c)(8) and (9).

Dated: November 7, 2013.
Dale L. Aultman,
Secretary, Farm Credit Administration Board.

[FR Doc. 2013-27123 Filed 11-7-13; 11:15 am]

BILLING CODE 6705-01-P